ENVIRONMENTAL PROTECTION AGENCY

[ER-FRL-6672-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050428, ERP No. D-FRC-K03028-CA, Long Beach Liquefied Natural Gas (LNG) Import Project, Construction and Operation of a LNG Receiving Terminal and Associated Facilities, U.S. Army COE 10 and 404 Permits, Long Beach, CA.

Summary: EPA expressed environmental concerns about the projected modeled exceedance of the National Ambient Air Quality Standard for fine particulate matter (PM2.5) from operational emissions of the project. EPA believes there are additional control measures that could be evaluated to mitigate the proposed projects impact on ambient PM2.5 concentrations. Concerns were also expressed about localized air emission impacts to surrounding communities and the safety risk evaluation of the onsite storage of certain products. Rating EC2.

EIS No. 20050487, ERP No. D-NRS-J36054-UT, Coal Creek Flood Control and Parkway Project, Proposed Channel Improvements, Two Irrigation Division Structures on Coal Creek (the Main Street Diversion and the Woodbury Diversion), Cedar City, Iron County, UT.

Summary: EPA expressed concerns about the formulation of the purpose and need statement and the limited range of alternatives analyzed, and requested clarification about air quality impacts the cumulative impacts analysis and whether the impacts in the riparian area have been significant enough to warrant mitigation. Rating EC2.

EIS No. 20050432, ERP No. DS-FHW-E40714-GA, US 411 Connector, From US411/GA-20 Interchange with US41 to US 411 Interchange with I-75, Updated Information, Funding and U.S. Army COE Section 404 Permit, Bartow County, GA.

Summary: EPA has expressed environmental concerns about the proposed project because of the potential for significant direct and indirect impacts to water quality and threatened and endangered fish species as well as water quality. Rating EC2.

Final EISs

EIS No. 20050238, ERP No. F-AFS-J36053-UT, Monticello and Blanding Municipal Watershed Improvement Projects, Implementation, Manti-La Sal National Forest, Monticello Ranger District, San Juan County, UT.

Summary: EPA supports Alternative C which should reduce the wetland and stream impacts associated with replacement of the water collection and piping systems for the municipal water supply system for the City of Monticello. EPA remains concerned about the level of ecological benefits attributed to logging spruce stands at risk for a spruce beetle invasion.

EIS No. 20050313, ERP No. F-DOE-J39033-UT, Moab Uranium Mill Trailings Remediation, Proposal to Clean Up Surface Contamination and Implement a Ground Water Strategy, Grand and San Juan Counties, UT.

Summary: EPA supports the Department of Energy's selection of the Crescent Junction off-site location and the movement of these tailings by rail. This location has the least environmental and cultural impact of any of the alternatives considered. The stable geologic and surface conditions at the Crescent Junction alternative will provide isolation of these tailings without public health risks for the long term. Moving these tailings by rail will avoid disruption of highway traffic and can be accomplished in the least amount of time.

EIS No. 20050439, ERP No. F-COE-E09810-MS, Enhanced Evaluation of Cumulative Effects Associated with U.S. Army Corps of Engineers Permitting Activity for Large-Scale Development in Coastal Mississippi, Hancock, Harrison, Jackson, and Mississippi Counties, MS.

Summary: EPA supports the use of the proposed permitting methodologies along with the trends analysis approach.

EIS No. 20060012, ERP No. FS-COE-K60105-CA, U.S. Army National Training Center, Additional Maneuver Training Land at Fort Irwin, Implementation, San Bernardino County, CA.

Summary: EPA's concerns were addressed in the EIS; therefore, EPA had no objection to the proposed project.

Dated: February 21, 2006.
Robert W. Hargrove,
Director, NEPA Compliance Division Office of Federal Activities.

[FR Doc. E6-2661 Filed 2-23-06; 8:45 am]

BILLING CODE 6560-50-P